DEPARTMENT OF JUSTICE

Office of the Attorney General

Designation of Criminal Division as “Designated Authority” Under an Agreement With the United Kingdom; AG Order No. 4876-2020

AGENCY: Department of Justice.

ACTION: Notice of Attorney General designation.

SUMMARY: The Agreement between the Government of the United States of America and the Government of the United Kingdom of Great Britain and Northern Ireland on Access to Electronic Data for the Purpose of Countering Serious Crime (the “U.S.-U.K. CLOUD Agreement” or “Agreement”) defines “Designated Authority” for the United States as the government entity designated by the Attorney General and assigns certain responsibilities to the Designated Authority. This notice designates the Criminal Division as the Designated Authority for purposes of the Agreement.

DATES: The designation made by this notice is effective October 23, 2020.

FOR FURTHER INFORMATION CONTACT: Vaughn Ary, Director, Office of International Affairs, Criminal Division, U.S. Department of Justice, Washington, DC 20005; Telephone (202) 514-0000.

SUPPLEMENTARY INFORMATION: On October 3, 2019, the Home Secretary of the United Kingdom and the Attorney General of the United States signed the U.S.-U.K. CLOUD Agreement. A copy of the U.S.-U.K. CLOUD Agreement is available at: https://www.justice.gov/dag/cloudact. In accordance with the Clarifying Lawful Overseas Use of Data Act, Public Law 115-141, Div. V, Section 105(a) (March 23, 2018), 18 U.S.C. 2523 (“CLOUD Act”), the Agreement will enter into force on the date of the later note completing an exchange of diplomatic notes between the parties indicating that each has taken the steps necessary to bring the Agreement into force. See 85 FR 12578 (Mar. 3, 2020) (providing notice that the Attorney General notified Congress that he had certified the U.S.-U.K. CLOUD Agreement, in accordance with the terms of the CLOUD Act, on January 10, 2020, allowing it to become operative not earlier than 180 days later) and Article 16 of the U.S.-U.K. CLOUD Agreement (addressing entry in force). The Agreement assigns certain responsibilities to the “Designated Authority” for each country. Article 1.8 defines “Designated Authority,” for the United States, as “the governmental entity designated . . . by the Attorney General.”

Designation of the Criminal Division as the Designated Authority

In accordance with Article 1.8 of the U.S.-U.K. CLOUD Agreement, the Attorney General hereby designates the Criminal Division of the Department of Justice as the Designated Authority for the United States under the Agreement.

Dated: October 19, 2020.
William P. Barr,
Attorney General.

[FR Doc. 2020-23556 Filed 10-20-20; 4:15 pm]

BILLING CODE 4410-14-P